COMMITTEE FOR PURCHASE FROM PEOPLE WHO ARE BLIND OR SEVERELY DISABLED

Procurement List; Additions

AGENCY: Committee for Purchase From People Who Are Blind or Severely Disabled

ACTION: Additions to the procurement list.

SUMMARY: This action adds to the Procurement List services to be furnished by nonprofit agencies employing persons who are blind or have other severe disabilities.

DATES: Effective Date: October 16, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740

SUPPLEMENTARY INFORMATION: On September 24, 1999, July 21 and 28, and August 4, 2000, the Committee for Purchase From People Who Are Blind or Severely Disabled published notices (64 FR 51736 and 65 FR 45358, 46425 and 47949) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46-48c) in connection with the services proposed for addition to the Procurement List.

Accordingly, the following services are hereby added to the Procurement List:

Administrative/General Support Services

Department of the Army, Office of the Surgeon General, 5111 Leesburg Pike, Room 538, Falls Church, Virginia

Base Supply Center

Wright-Patterson Air Force Base, Ohio

Grounds Maintenance

Base Housing, Marine Corps Air Station, Cherry Point, North Carolina

Hearing/Grievance Examiner Services

The Corporation for National & Community Service, 1201 New York Avenue, NW, Washington, DC

Janitorial/Custodial

Naval and Marine Corps Reserve Center, 3655 S. Wilmot Road, Tucson, Arizona

Janitorial/Custodial

Youth Center (Ch-905), New Submarine Base New London, Groton, Connecticut

Laundry Service

Linen Exchange, Building 426, March Air Force Base, California

Parking Facility Attendant

VA Medical Center, 2215 Fuller Road, Ann Arbor, Michigan

Switchboard Operation

Harry S. Truman Memorial Veterans' Hospital, Columbia, Missouri

This action does not affect current contracts awarded prior to the effective date of this addition or options that may be exercised under those contracts.

G. John Heyer,
General Counsel.

[FR Doc. 00-23791 Filed 9-14-00; 8:45 am]

BILLING CODE 6353-01-P